DEPARTMENT OF THE TREASURY

Submission for OMB Review; Comment Request

March 31, 2011.

The Department of the Treasury will submit the following public information collection requirement to OMB for review and clearance under the Paperwork Reduction Act of 1995, Public Law 104-13 on or after the date of publication of this notice. A copy of the submission may be obtained by contacting the Treasury Departmental Office Clearance Officer listed. Comments regarding these information collections should be addressed to the OMB reviewer listed and to the Treasury PRA Clearance Officer, Department of the Treasury, 1750 Pennsylvania Avenue, NW., Suite 11010, Washington, DC 20220.

Dates: Written comments should be received on or before May 5, 2011 to be assured of consideration.

Departmental Offices, International Affairs

OMB Number: 1505-NEW.

Type of Review: New collection.

Title: Treasury International Capital Form SLT, “Aggregate Holdings of Long-Term Securities by U.S. and Foreign Residents”.

Form: SLT.

Abstract: Form SLT will be part of the Treasury International Capital (TIC) reporting system, which is required by law (22 U.S.C. 286f; 22 U.S.C. 3103; E.O. 10033; 31 CFR part 128), for the purpose of providing timely information on international capital movements. Form SLT will be used to collect monthly data on cross-border ownership by U.S. and foreign residents of long-term securities for portfolio investment purposes. These data will be used by the U.S. Government in the formulation of international and financial policies and for the preparation of the U.S. balance of payments accounts and the U.S. international investment position. Form SLT is filed by U.S.-resident custodians, U.S.-resident issuers of long-term securities, and U.S.-resident end-investors (including endowments, foundations, pension funds, mutual funds, and other investment managers/advisors/sponsors) in long-term foreign securities.

Respondents: Private Sector: Businesses or other for-profits; Not-for-profit institutions.

Estimated Total Reporting Burden: 20,520 hours.

Departmental Office Clearance Officer: Dwight Wolkow, DO/International Affairs, 1500 Pennsylvania Ave., NW., Rm. 5205, Washington, DC 20220; (202) 622-1276.

OMB Reviewer: Shagufta Ahmed, Office of Management and Budget, New Executive Office Building, Room 10235, Washington, DC 20503; (202) 395-7873.

Dawn D. Wolfgang,
Treasury PRA Clearance Officer.

[FR Doc. 2011-8008 Filed 4-4-11; 8:45 am]

BILLING CODE 4810-25-P